SECURITIES AND EXCHANGE COMMISSION

[Release No. 34-102324; File No. SR-NYSE-2024-35]

Self-Regulatory Organizations; New York Stock Exchange LLC; Notice of Withdrawal of a Proposed Rule Change To Amend Section 302.00 of the NYSE Listed Company Manual To Exempt Closed-End Funds Registered Under the Investment Company Act of 1940 From the Requirement To Hold Annual Shareholder Meetings

February 3, 2025.

On June 21, 2024, New York Stock Exchange LLC (“NYSE”) filed with the Securities and Exchange Commission (“Commission”), pursuant to Section 19(b)(1) of the Securities Exchange Act of 1934 (“Act”) ¹ and Rule 19b-4 thereunder,² a proposed rule change to amend Section 302.00 of the NYSE Listed Company Manual to exempt closed-end funds registered under the Investment Company Act of 1940 from the requirement to hold annual shareholder meetings. The proposed rule change was published for comment in the Federal Register on July 9, 2024.³

¹ 15 U.S.C. 78s(b)(1).

² 17 CFR 240.19b-4.

³ See Securities Exchange Act Release No. 100460 (July 3, 2024), 89 FR 56447. Comments on the proposed rule change are available at: https://www.sec.gov/comments/sr-nyse-2024-35/srnyse202435.htm.

On August 21, 2024, pursuant to Section 19(b)(2) of the Act,⁴ the Commission designated a longer period within which to approve the proposed rule change, disapprove the proposed rule change, or institute proceedings to determine whether to disapprove the proposed rule change.⁵ On October 4, 2024, the Commission instituted proceedings under Section 19(b)(2)(B) of the Act ⁶ to determine whether to approve or disapprove the proposed rule change.⁷ On December 18, 2024, the Commission extended the period for consideration of the proposed rule change to March 6, 2025.⁸

⁴ 15 U.S.C. 78s(b)(2).

⁵ See Securities Exchange Act Release No. 100790, 89 FR 68676 (Aug. 27, 2024). The Commission designated October 7, 2024, as the date by which the Commission shall approve or disapprove, or institute proceedings to determine whether to disapprove, the proposed rule change.

⁶ 15 U.S.C. 78s(b)(2)(B).

⁷ See Securities Exchange Act Release No. 101257, 89 FR 82277 (Oct. 10, 2024).

⁸ See Securities Exchange Act Release No. 101968, 89 FR 105143 (Dec. 26, 2024).

On January 31, 2025, NYSE withdrew the proposed rule change (SR-NYSE-2024-35).

For the Commission, by the Division of Trading and Markets, pursuant to delegated authority.⁹
⁹ 17 CFR 200.30-3(a)(12).
Sherry R. Haywood,
Assistant Secretary.

[FR Doc. 2025-02329 Filed 2-6-25; 8:45 am]

BILLING CODE 8011-01-P